DEPARTMENT OF JUSTICE

Notice of Lodging of Supplement to the Consent Decree Pursuant to the Safe Drinking Water Act

In accordance with 28 CFR 50.7, notice is hereby given that a proposed Supplement to the Consent Decree in United States and State of New York, et al. v. City of New York, et al., Civil Action No. CV 97-2154 (Gershon J.) (Gold, M.J.), was lodged with the United States District Court for the Eastern District of New York on December 12, 2001. In this action, the United States and the State of New York sought to court order requiring the City of New York to come into compliance with the Safe Drinking Water Act, 42 U.S.C. 300f, et seq., and the Surface Water Treatment Rule, a National Primary Drinking Water Regulation, by installing filtration treatment for its Croton water supply system.

On November 24, 1998, the Court entered a Consent Decree in this action which required the City, among other obligations, to select a site for, design, and contruct the filtration plant. The City selected a site for the plant at the Mosholu Golf Course in Van Cortlandt Park in the Bronx. However, on February 8, 2001, the New York State Court of Appeals held that the City could not construct the plant at the Mosholu Golf Course Site without first obtaining approve from the New York State Legislature. The City has sought, but to date has not obtained, legislative approve to construct the plant at the Mosholu Golf Course Site, though the City represents that it is continuing to seek such approval.

In view of the lack of legislative approval for the Mosholu Golf Course Site, the Parties negotiated a Supplement to the Consent Decree, which, among other things, requires the City to select a new site and modifies the deadlines for construction of the filtration plant. The City has identified two alternative sites for construction of the filtration plant, a site in the Town of Mount Pleasant in Westchester Country, denominated the Eastview Site, and a site adjacent to the Harlem River in Bronx County, denominated the Harlem River Site. However, the City wishes to conduct additional study regarding these sites prior to selecting a preferred site for the plant. Accordingly, the Supplement tot he Consent Decree provides that the City will conduct some initial study and design work relating to the Eastview Site and the Harlem River Site and will identify its preferred Site in a draft environmental impact statement to be submitted on April 30, 2003. The City is to select one of these two sites or, if legislative approval for the Mosholu Golf Course Site is obtained by April 15, 2003 and other requirements are met, the City may instead reselect the Mosholu Golf Course Site.

The Supplement to the Consent Decree provides that, if the Eastview Site is selected, the City is to complete construction of the plant by March 31, 2010, with full operation to commence no later than September 30, 2010, and, if the Harlem River Site is selected, the City is to complete construction of the plant by April 30, 2011, with full operation to commence by October 31, 2011. The Supplement also provides that, if the United States, State, or the City determines during the course of implementation of the Supplement that the City cannot complete the plant at the selected site within the schedule set forth in the Supplement or within a reasonable time period agreed to by the parties, the City shall construct the plant at the alternate site.

The Supplement to the Consent Decree also provides for a supplemental Interim Measure. This Interim Measure requires the City to implement a project to improve, enhance and/or secure the Croton Water Supply System and/or the Croton Watershed. The City is to submit a proposal to the United States and the State for such a project by September 30, 2002, and to implement the approved project between May 31, 2003 and May 31, 2006, at a cost of $2,000,000.

The Department of Justice will receive comments relating to the proposed Supplement to the Consent Decree for a period of thirty (30) days from the date of this publication. Comments should be addressed to the Assistant Attorney General, Environment and Natural Resources Division, Department of Justice, c/o Deborah B. Zwany, Assistant U.S. Attorney, Eastern District of New York, One Pierrepont Plaza, 14th Floor, Brooklyn, New York 11201, and should refer to United States and State of New York v. City of New York, D.J. Ref. 90-5-1-1-4429. A copy of the comments should also be sent to Chief, Environmental Enforcement Section, U.S. Department of Justice, P.O. Box 7611, Washington, DC 20044.

The proposed Supplement to the Consent Decree may be examined at the office of the United States Attorney for the Eastern District of New York, One Pierrepont Plaza, 14th Floor, Brooklyn, New York 11201, and at the Region II office of the Environmental Protection Agency, 290 Broadway, New York, New York 10007. A copy of the proposed Supplement to the Consent Decree may also be obtained by faxing a request to Tonia Fleetwood, Department of Justice Consent Decree Library, fax no. (202) 353-0296. There is a charge for the copy (25 cent per page reproduction cost). When requesting a copy, please mail a check payable to the “Consent Decree Library”, in the amount of $15.00, to: Consent Decree Library, U.S. Department of Justice, P.O. Box 7611, Washington, DC 20044.

Karen S. Dworkin,
Assistant Chief, Environmental Enforcement Section, Environmental & Natural Resources Division.

[FR Doc. 01-31278 Filed 12-19-01; 8:45 am]

BILLING CODE 4410-15-M